DEPARTMENT OF LABOR

Occupational Safety and Health Administration

[Docket No. ICR-1218-0095(2004)]

Concrete and Masonry Construction; Extension of the Office of Management and Budget's (OMB) Approval of Information Collection Requirements (Paperwork)

AGENCY: Occupational Safety and Health Administration (OSHA), Labor.

ACTION: Request for public comment.

SUMMARY: OSHA solicits comments concerning its request for an extension of the information collection requirements contained in the Standard on Concrete and Masonry Construction (29 CFR part 1926, subpart Q).

DATES: Comments must be submitted by the following dates:

Hard Copy: Your comments must be submitted (postmarked or received) by October 25, 2004.

Facsimile and electronic transmission: Your comments must be received by October 25, 2004.

ADDRESSES: You may submit comments, identified by OSHA Docket No. ICR-1218-0095(2004), by any of the following methods:

Regular mail, express delivery, hand-delivery, and messenger service: Submit your comments and attachments to the OSHA Docket Office, Room N-2625, U.S. Department of Labor, 200 Constitution Avenue, NW., Washington, DC 20210; telephone (202) 693-2350 (OSHA's TTY number is (877) 889-5627). The OSHA Docket Office and Department of Labor hours of operation are 8:15 a.m. to 4:45 p.m., e.t.

Facsimile: If your comments, including any attachments, are 10 pages or fewer, you may fax them to the OSHA Docket Office at (202) 693-1648.

Electronic: You may submit comments through the Internet at http://ecomments.osha.gov/. Follow instructions on the OSHA Webpage for submitting comments.

Docket: For access to the docket to read or download comments or background materials, such as the complete Information Collection Request (ICR) (containing the Supporting Statement, OMB-83-I Form, and attachments), go to OSHA's Web page at http://OSHA.gov. Comments, submissions and the ICR are available for inspection and copying at the OSHA Docket Office at the address above. You may also contact Todd Owen at the address below to obtain a copy of the ICR.

(For additional information on submitting comments, please see the “Public Participation” heading in the SUPPLEMENTARY INFORMATION section of this document.)

FOR FURTHER INFORMATION CONTACT: Todd Owen, Directorate of Standards and Guidance, OSHA, Room N-3609, U.S. Department of Labor, 200 Constitution Avenue, NW., Washington, DC 20210; telephone (202) 693-2222.

SUPPLEMENTARY INFORMATION:

I. Submission of Comments on This Notice and Internet Access to Comments and Submissions

You may submit comments and supporting materials in response to this document by (1) hard copy, (2) FAX transmission (facsimile), or (3) electronically through the OSHA Web page.

Because of security related problems, there may be a significant delay in the receipt of comments by regular mail. Please contact the OSHA Docket Office at (202) 693-2350 (TTY (877) 889-5627) for information about security procedures concerning the delivery of materials by express delivery, hand delivery and messenger service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page.

II. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657). The information-collection requirements, and their rational, contained in 29 CFR Part 1926, subpart Q Concrete and Masonry Construction are listed below.

Paragraph (c)(2) of § 1926.701 requires signs and barriers be erected to limit employee access to the post-tensioning area during tensioning operations. Paragraphs (a)(2) and (j)(1) are two general requirements to use lockout/tagout measures to protect workers from injury associated with equipment and machinery.

Paragraph (a)(2) of § 1926.703 requires employers to make available, at the jobsite, drawings or plans for: the jack layout, formwork (including shoring equipment), working decks, and scaffolds, as well as any revisions to these documents. Paragraph (a) of § 1926.705 requires employers engaged in lift-slab operations to have specific designs and plans detailing the lift-slab operation. Drawings, plans and/or designs are developed and kept available at the jobsite as a usual and customary business practice to be used by the various contractors during construction; therefore, OSHA assumes there are no burden hours or costs associated with preparing drawings, plans or designs and having them on the jobsite.

Section 1926.705(b) requires that jacks used for lifting operations be marked to indicate their rated capacity. Manufacturers of jacks rated the equipment as a usual and customary practice; therefore, OSHA assumes there are no burden hours or costs to employers for these marking requirements.

III. Special Issues for Comment

OSHA has a particular interest in comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information collection and transmission techniques.

IV. Proposed Actions

OSHA is proposing to extend the information-collection requirements contained in the Standard on Concrete and Masonry Construction (28 CFR 1926, Subpart Q).

The Agency will summarize the comments submitted in response to this notice and will include this summary in the request to OMB to extend the approval of the information collection requirements contained in the Standard.

Type of Review: Extension of currently approved information-collection requirements.

Title: Concrete and Masonry Construction (29 CFR part 1926, Subpart Q).

OMB Number: 1218-0095.

Affected Public: Business or other for profit; Not-for-profit institutions; Federal government; State, local, or tribal government.

Number of Respondents: 280,000.

Frequency of Response: On occasion.

Total Responses: 280,000.

Average Time per Response: Five minutes (.08 hours) to post or place warning signs, locks or tags.

Estimated Total Burden Hours: 22,400 hours.

Estimated Cost (Operation and Maintenance): $0.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on August 20, 2004.
John L. Henshaw,
Assistant Secretary of Labor.

[FR Doc. 04-19532 Filed 8-25-04; 8:45 am]

BILLING CODE 4510-26-M